DEPARTMENT OF THE INTERIOR

Fish and Wildlife Service

[FWS-R1-R-2010-N001; 1265-0000-10137-S3]

Ridgefield National Wildlife Refuge, Clark County, WA

AGENCY: Fish and Wildlife Service, Interior.

ACTION: Notice of availability: Draft comprehensive conservation plan and environmental assessment; request for comments.

SUMMARY: We, the U.S. Fish and Wildlife Service (Service), announce the availability of our draft comprehensive conservation plan and environmental assessment (DCCP/EA) for the Ridgefield National Wildlife Refuge (refuge), for public review and comment. The DCCP/EA describes our alternatives, including our preferred alternative, for managing the refuge for the 15 years following approval of the final CCP.

DATES: To ensure consideration, we need to receive your written comments by July 16, 2010.

ADDRESSES: You may submit comments, requests for more information, or requests for copies of the DCCP/EA, by any of the following methods.

E-mail: FW1PlanningComments@fws.gov. Include “Ridgefield NWR DCCP/EA” in the subject line.

Fax: Attn: Bob Flores, Project Leader, (360) 887-4109.

U.S. Mail: Bob Flores, Project Leader, Ridgefield National Wildlife Refuge, P.O. Box 457, Ridgefield, WA 98642.

Web site: http://www.fws.gov/ridgefieldrefuges/ridgefield; select “Contact Us.”

FOR FURTHER INFORMATION CONTACT: Bob Flores, Project Leader, (360) 887-4106.

SUPPLEMENTARY INFORMATION:

Introduction

The refuge encompasses 5,218 acres along the lower Columbia River in Clark County, WA. Habitat types on the refuge include seasonal, semipermanent, and permanent wetlands; floodplain forests; managed pastures; croplands; and oak woodlands. The refuge was established to provide migration and wintering habitat for dusky Canada geese and other waterfowl. It also provides important habitat for sandhill cranes, waterbirds, migratory landbirds, and raptors.

Background

The CCP Process

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Refuge Administration Act.

Public Outreach

We began public outreach by publishing a Notice of Intent in the Federal Register (71 FR 43787; August 2, 2006), announcing our intent to complete a CCP/EA and inviting public comments. In August 2006, we distributed Planning Update 1 to our mailing list and public outlets. On September 14 and 20, 2006, we held public scoping meetings in Ridgefield and Vancouver, Washington, respectively, to meet the public and obtain comments. The meetings were announced through local media outlets, on the Refuge's Web site, and in Planning Update 1. In January 2007, we distributed Planning Update 2, which included a summary of the comments we received, a planning schedule, and a description of the CCP's scope. In March 2009, we distributed Planning Update 3; in it we summarized our preliminary draft alternatives, requested public comments, and invited the public to an open house. On March 26, 2009, we held an open house in Ridgefield, Washington, to gather input on the preliminary alternatives.

DCCP/EA Alternatives We Are Considering

We identified and evaluated four alternatives for managing the refuge, including a No Action Alternative (Alternative 1). Brief descriptions of the alternatives follow.

Alternative 1 (No Action)

Under Alternative 1, the refuge would continue to manage and where feasible restore habitat for priority species, including dusky Canada geese, other Canada geese subspecies, cackling geese, other waterfowl, and Federal and State imperiled listed species. Hunting would continue on the River ‘S’ Unit's 760-acre hunt area. The 4.3-mile auto tour route would remain open year round in its current configuration. The refuge would coordinate with its Friends groups, local educators, and Tribes to conduct environmental and cultural education and interpretation programs. This alternative is considered the base from which to compare the action alternatives.

Alternative 2 (Preferred Alternative)

Under Alternative 2, our preferred alternative, the refuge would continue to protect, maintain, and where feasible, restore habitat for priority species, including dusky Canada geese, other waterfowl, and Federal and State imperiled listed species (e.g. sandhill crane). Under this alternative the refuge would maintain high-quality green forage for geese in improved pastures and wet meadows, and increase the acreage in cropland and wet meadow. Wetlands would be managed to increase productivity and reduce water pumping costs. Invasive species and State- and county-listed noxious weeds would continue to be a primary management concern. Enhancing and restoring bottomland forest and oak woodland habitats would increase. We would complete habitat assessments to guide restoration of streams and tidally influenced wetlands. We would conduct feasibility studies for reintroducing native species such as Columbian white-tailed deer and western pond turtle, and inventory and monitoring efforts would increase. Current public use areas and closures would remain in effect under Alternative 2. The waterfowl hunt area/location would remain unchanged. Proposed changes in wetland management would improve the hunt program's quality over time. A new access point to the River ‘S’ Unit, including a 2-lane bridge and 1-mile entrance road, would be developed. The existing auto tour route would be open year round in its current location; however, the route would be shortened slightly to provide habitat for dusky Canada geese and cranes. A new 1.5-mile dike-top walking trail would be constructed. Environmental and cultural resources education and interpretation programs would increase.

Alternative 3

Under Alternative 3, actions to protect, maintain, and restore habitat for priority species are the same as under Alternative 2. Current public use areas and closures would remain in effect. The waterfowl hunt area/location would remain the same; however, core dusky habitat on the south end of the River ‘S’ Unit (207 acres) would be closed to goose hunting. The existing access point to the River ‘S’ Unit would be retained; a new 2-lane bridge would be constructed to eliminate the at-grade railroad crossing; and the entrance road would be widened. Implementation of this alternative would require either land acquisition or easement relocation/expansion. The existing auto tour route would remain unchanged. A new 1.5-mile dike-top walking trail would be constructed. Environmental and cultural resources education and interpretation programs would increase.

Alternative 4

Under Alternative 4, actions to protect, maintain, and restore habitat for priority species would be the same as under Alternatives 2 and 3, except slightly more crops would be grown. The total wildlife sanctuary area (closed to public use) would be slightly less than the other alternatives; however, this alternative provides the largest contiguous sanctuary for dusky Canada geese and sandhill cranes on the south end of the refuge. A new access point to the River ‘S’ Unit, including a 2-lane bridge and 1-mile entrance road north of the current access point, would be developed. Closing the south end of the River ‘S’ Unit to public use during waterfowl and crane migration season, to benefit dusky Canada geese and sandhill cranes is proposed in this alternative. The south end of the River ‘S’ Unit (207 acres) would be closed to hunting, and the south end of the auto tour route would be closed during waterfowl season (October 1-March 15), which would reduce its length from 4.3 miles to 2.6 miles during that time. To offset the loss of hunting opportunities on the south end of the River ‘S’ Unit, 250 acres of Bachelor Island would be opened to waterfowl hunting. The northern portion of this area would be closed early to hunting (January 15) to prevent disturbance to a great blue heron nesting colony. A new 1.5-mile dike-top walking trail would be constructed. Environmental and cultural resources education and interpretation programs would increase.

Public Availability of Documents

In addition to the information in ADDRESSES, you can obtain a CD-ROM copy of the DCCP/EA from the refuge at phone number (360) 887-4106. Copies may be reviewed at the refuge and on the Internet at http://www.fws.gov/ridgefieldrefuges/ridgefield. Printed copies will be available for review at the following libraries: Ridgefield Community Library, 210 North Main Ave., Ridgefield, WA 98642; Vancouver Community Library, 1007 East Mill Plain Blvd., Vancouver, WA 98663; and Multnomah County Central Library, 801 SW. 10th Ave., Portland, OR 97205.

Next Steps

After this comment period ends, we will analyze the comments and address them in the final CCP and decision document.

Public Availability of Comments

Before including your address, phone number, e-mail address, or other personal identifying information in your comment, you should be aware that your entire comment—including your personal identifying information—may be made publicly available at any time. While you can ask us in your comment to withhold your identifying information from the public, we cannot guarantee that we will be able to do so.

Dated: April 20, 2010.
Carolyn A. Bohan,
Acting Regional Director, Region 1, Portland, Oregon.

[FR Doc. 2010-14085 Filed 6-15-10; 8:45 am]

BILLING CODE 4310-55-P